Proclamation 10434 of August 31, 2022

National Preparedness Month, 2022

By the President of the United States of America

A Proclamation

During National Preparedness Month, my Administration recommits to preparing our Nation for disasters, both natural and manmade, and especially the extreme weather events that we face with increasing frequency and ferocity. We also continue our efforts to ensure that all Americans have the resources they need to keep themselves and their families safe.

Every part of this Nation faces the threat of disasters, and while many emergencies are unpredictable, we know that the most vulnerable among us often bear the most significant impacts. When extreme weather destroys homes, families with less savings are more prone to housing insecurity. When pandemics arise, individuals without access to health care are more liable to become sick or face financial hardship. For the future of all Americans, my Administration is committed to strengthening our disaster resilience and continuing our strong partnerships with State, local, Tribal, and territorial leaders.

Our work begins with tackling the climate crisis. We know that wildfires are super-charged by prolonged drought, that storms and coastal flooding are exacerbated by rising sea levels, and that extreme heat threatens our power grids and national security. That is why my Administration has invested billions of dollars in clean energy, secured funding for thousands of new climate-friendly jobs, and supported enhanced wildfire preparedness and forest restoration efforts. This summer, I signed the Inflation Reduction Act, a historic law that will slash our Nation's greenhouse gas emissions by roughly 40 percent through investments in renewable energy and low-carbon technologies and also help communities cope with long-term drought. And demonstrating our commitment to global leadership, we rejoined the Paris Climate Agreement and pledged to support developing nations in their campaigns to combat climate change. By addressing climate challenges today, we can minimize the risk of natural disasters tomorrow.

My Administration has also taken steps to ensure that our roads, bridges, buildings, and energy sector infrastructure are more resilient to future natural and manmade disasters. Last year, I signed a once-in-a-generation infrastructure law to modernize our power grid, protect us against cyberattacks, and revamp our ports, airports, and freight infrastructure. The Bipartisan Infrastructure Law invests over $50 billion to protect against drought, heat, and flooding and includes funding for the weatherization of American homes. It also supports Army Corps of Engineers projects across the Nation, which will reduce the risks of coastal and inland flooding. Through our Justice40 Initiative, we are working to ensure that 40 percent of the overall benefits of these historic investments reach communities that are marginalized, underserved, and overburdened by pollution.

Additionally, we are investing in more resilient American supply chains to make us less reliant on foreign countries for the critical technologies that we need. In August, I signed the CHIPS and Science Act to accelerate the manufacturing of semiconductors in America and help prevent economic disaster when disruptions to global supply chains arise.

As we continue our fight against the COVID-19 pandemic and other pathogens, my Administration is preparing for the emergence of future biological threats of natural, accidental, and deliberate origin. We must be ready to prevent these catastrophes and treat pandemic preparedness, health security, and global health as top national security priorities. That is why I am requesting significant funding from the Congress to help us develop new vaccine technologies, accurate and affordable diagnostics, effective therapeutics, and next-generation personal protective equipment. We also need Federal funds to enhance partner countries' capacities to prevent, detect, and respond to infectious disease threats across the globe.

Preparedness is a collective effort that requires the whole of government and the communities we represent to work together. The Federal Emergency Management Agency (FEMA) is helping to prepare the Nation—hiring, training, qualifying, and retaining a ready workforce that is available to deploy to support disaster survivors across the country. By training emergency managers across all levels of government, FEMA is better equipping our country to respond quickly and support all Americans.

During this National Preparedness Month, let us strengthen our support for first responders—our first line of defense when catastrophes threaten our homes, businesses, schools, and families. Let us each recommit to doing our part to prepare for emergencies. I encourage all Americans to download the FEMA App and receive real-time alerts, to turn on wireless emergency alerts on mobile phones, and to pack emergency go-bags. Everyone can access free information about readiness at Ready.gov, or Listo.gov for Spanish-speakers. Together, we can be prepared for any disaster that lies ahead.

NOW, THEREFORE, I, JOSEPH R. BIDEN JR., President of the United States of America, by virtue of the authority vested in me by the Constitution and the laws of the United States, do hereby proclaim September 2022 as National Preparedness Month. I encourage all Americans to recognize the importance of preparedness and work together to enhance our resilience and readiness.

IN WITNESS WHEREOF, I have hereunto set my hand this thirty-first day of August, in the year of our Lord two thousand twenty-two, and of the Independence of the United States of America the two hundred and forty-seventh.

[FR Doc. 2022-19296

Filed 9-2-22; 8:45 am]

Billing code 3395-F2-P